DEPARTMENT OF HEALTH AND HUMAN SERVICES

National Institutes of Health

National Cancer Institute; Amended Notice of Meeting

Notice is hereby given of a change in the meeting of the National Cancer Advisory Board Ad Hoc Subcommittee on Communications, February 2, 2009, 6:30 p.m. to 8 p.m., Bethesda Marriott Suites, 6711 Democracy Boulevard, Bethesda, MD 20814 and the meeting of the National Cancer Advisory Board, February 3-4, 2009, 8 a.m. to 12 p.m., National Institutes of Health, Building 31, 31 Center Drive, Bethesda, MD 20892, which was published in the Federal Register on January 21, 2009 74 FR 3622.

This notice is amended to cancel the meeting of the National Cancer Advisory Board Ad Hoc Subcommittee on Communications and to change the end time of the National Cancer Advisory Board closed session on February 3 to 5:15 p.m. The closed session will be held from 4 p.m. to 5:15 p.m. Also, to change the start time of the open session of the National Cancer Advisory Board meeting on February 4 to 8:30 a.m.

Dated: January 22, 2009.
Jennifer Spaeth,
Director, Office of Federal Advisory Committee Policy.

[FR Doc. E9-1863 Filed 1-28-09; 8:45 am]

BILLING CODE 4140-01-P